DEPARTMENT OF COMMERCE

National Oceanic and Atmospheric Administration

50 CFR Part 622

RIN 0648-AV34

Fisheries of the Caribbean, Gulf of Mexico, and South Atlantic; Reef Fish Fishery of the Gulf of Mexico; Amendment 30A

AGENCY: National Marine Fisheries Service (NMFS), National Oceanic and Atmospheric Administration (NOAA), Commerce.

ACTION: Notice of availability of Amendment 30A to the Reef Fish Fishery Management Plan; request for comments.

SUMMARY: NMFS announces the Gulf of Mexico Fishery Management Council (Council) has submitted Amendment 30A to the Fishery Management Plan (FMP) for the Reef Fish Resources of the Gulf of Mexico for review, approval, and implementation by NMFS. Amendment 30A proposes actions to end overfishing of greater amberjack and gray triggerfish and to rebuild these stocks to sustainable levels.

DATES: Written comments must be received no later than 5 p.m., eastern time, on May 30, 2008.

ADDRESSES: You may submit comments, identified by “0648-AV34” by any of the following methods:

• Electronic Submissions: Submit all electronic public comments via the Federal e-Rulemaking Portal http://www.regulations.gov.

• Fax: 727-824-5308; Attention: Peter Hood.

• Mail: Peter Hood, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

Copies of Amendment 30A, which include a supplemental environmental impact statement, an initial regulatory flexibility analysis, and a regulatory impact review may be obtained from the Gulf of Mexico Fishery Management Council, 2203 North Lois Avenue, Suite 1100, Tampa, FL 33607; telephone 813-348-1630; fax 813-348-1711; e-mail gulfcouncil@gulfcouncil.org; or may be downloaded from the Council's website at http://www.gulfcouncil.org/.

FOR FURTHER INFORMATION CONTACT: Peter Hood, telephone 727-824-5305; fax 727-824-5308; e-mail peter.hood@noaa.gov.

SUPPLEMENTARY INFORMATION: The Magnuson-Stevens Fishery Conservation and Management Act (Magnuson-Stevens Act) requires each Regional Fishery Management Council to submit any fishery management plan or amendment to NMFS for review and approval, disapproval, or partial approval. The Magnuson-Stevens Act also requires that NMFS, upon receiving a plan or amendment, publish an announcement in the Federal Register notifying the public that the plan or amendment is available for review and comment.

Background

The reauthorized Magnuson-Stevens Act of 2006 requires regional fishery management councils to establish annual catch limits (ACLs) for each stock or stock complex and accountability measures (AMs) to ensure these ACLs are not exceeded. Amendment 30A addresses these requirements for greater amberjack and gray triggerfish.

Greater amberjack have been under a rebuilding plan since 2003. However, a new stock assessment completed in 2006 concluded that the stock is not recovering as projected. It remains overfished and NMFS recently determined overfishing is recurring. Amendment 30A is necessary to end overfishing and adjust total allowable catch (TAC) and management measures to bring the greater amberjack rebuilding plan back on course for stock recovery within the original 10-year time frame. To achieve this goal, TAC must be reduced by 32 percent to rebuild the stock by 2012.

For greater amberjack, Amendment 30A considers actions to constrain harvest to a TAC of 1.9 million lb (863,636 kg). Measures to constrain recreational harvest include a quota (which would also function as an ACL) of 1,368,000 lb (620,514 kg), increasing the minimum size limit to 30 inches (76 cm) fork length (FL), and prohibiting the bag limit for captain and crew of for-hire vessels. These measures are expected to reduce recreational landings by 26 percent. For the commercial fishery, Amendment 30A would establish a commercial quota (which would function as an ACL) of 503,000 lb (228,157 kg), thus reducing the commercial harvest by 38 percent.

The amendment proposes an allocation for greater amberjack of 73 percent for the recreational sector and 27 percent for the commercial sector. These allocations were derived from long-term average landings from 1981-2004.

To ensure the greater amberjack stock recovers, AMs are proposed. These AMs are intended to ensure landings do not exceed the TAC allowed by the rebuilding plan. The amendment authorizes the Assistant Administrator for Fisheries, NOAA, (AA) to shorten fishing seasons by sector within the current fishing year, or in the subsequent year, if landings are exceeded or are projected to be exceeded.

NMFS has determined gray triggerfish are undergoing overfishing based on the 2006 stock assessment. Based on status determination criteria proposed by the Council in Amendment 30A, the gray triggerfish stock would be considered overfished. Amendment 30A is necessary to establish management measures to end overfishing of gray triggerfish and would establish a rebuilding plan.

The proposed gray triggerfish rebuilding plan in Amendment 30A uses a constant fishing mortality strategy that optimizes yield while allowing the stock to rebuild by the end of 2012. Under the proposed rebuilding plan, TAC would be set at 500,000 lb (226,796 kg). In lieu of a recreational quota, Amendment 30A proposes to establish ACLs for the recreational sector of 394,000 lb (178,715 kg) for 2008, 426,000 lb (193,230 kg) for 2009, and 457,000 lb (207,291 kg) for 2010 and subsequent fishing years, until revised based on a subsequent stock assessment and appropriate rulemaking. Increasing the recreational minimum size limit for gray triggerfish to 14 inches (36 cm) FL is intended to constrain harvest to a level less than the ACL. This action is expected to reduce recreational landings by 60 percent, and achieve a 45 percent reduction in recreational harvest, necessary to rebuild the gray triggerfish stock. For the commercial fishery, actions in Amendment 30A would increase the commercial size limit to 14 inches (36 cm) FL and establish a commercial quota, which is less than the proposed commercial ACL. For 2008, the quota would be 80,000 lb (36,287 kg), 93,000 lb (42,184 kg) for 2009, and 106,000 lb (48,081 kg) for 2010. The commercial quota would remain at the 2010 level until revised based on a subsequent stock assessment and appropriate rulemaking. These measures are expected to reduce the commercial harvest by 61 percent in 2008, and improve the probability of achieving the 49 percent reduction in commercial harvest necessary for the stock to rebuild.

To ensure the stock recovers, AMs are proposed in Amendment 30A which give the AA the authority to shorten recreational and commercial fishing seasons. For the recreational fishery, AMs would provide the AA authority to shorten the fishing year in the following year if multi-year running average landings exceed the recreational ACL, with the exception of 2008, the first year of the rebuilding plan. The first year would use only 2008 landings as the basis of whether the following year would need to be shortened. For the commercial fishery, the proposed AMs would give the AA the authority to shorten the fishing season within the fishing year, or in the following year, if multi-year running average landings exceed, or are projected to exceed, the commercial ACLs. The exception to this would be for 2008, the first year of the rebuilding plan, which would use only 2008 landings. For both the recreational and commercial fisheries, ACLs are based on the yield from the fishing mortality rate associated with optimum yield. These yield levels are higher than the harvest allowed under the proposed management actions.

Amendment 30A would also define status determination criteria for gray triggerfish, as required by the Magnuson-Stevens Act. Currently, only a maximum fishing mortality threshold has been defined for gray triggerfish equal to the fishing mortality rate associated with harvesting the maximum sustainable yield (FMSY). Amendment 30A would define the minimum stock size threshold as (1-M)*BMSY where M is the natural mortality rate and BMSY is the stock size capable of supporting maximum sustainable yield on a continuing basis. The optimum yield would be defined as the yield associated with 0.75*FMSY.

A proposed rule that would implement measures outlined in Amendment 30A has been received from the Council. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

Comments received by May 30, 2008, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: March 25, 2008.
Alan D. Risenhoover
Director, Office of Sustainable Fisheries, National Marine Fisheries Service.

[FR Doc. E8-6523 Filed 3-28-08; 8:45 am]

BILLING CODE 3510-22-S